DEPARTMENT OF JUSTICE

Notice of Lodging of Consent Decree Pursuant to the Clean Water Act

In accordance with Department of Justice policy, 28 CFR 50.7, notice is hereby given that a proposed consent decree in the action entitled United State of America v. Sapo Corporation, et. al., Civil Action No. 99-2366 (D.P.R.), was lodged on December 15, 1999 with the United States District Court for the District of Puerto Rico. The proposed consent decree resolves claims of the United States, on behalf of the Secretary of the Army, under the Federal Water Pollution Control Act, as amended (“Clean Water Act”), 33 U.S.C. 1251-1387, against defendants Sapo Corporation, Concho Corporation, and Arnold Benus. These claims are for injunctive relief and civil penalties arising from defendants' alleged discharge of fill material into wetlands at the Copamarina Beach Resort in Cana Gorda Ward, Guanica, Puerto Rico, without a permit from the U.S. Army Corps of Engineers, in violation of Section 301(a) of the Clean Water Act, 33 U.S.C. 1311(a).

Under the terms of the proposed consent decree, the defendants will (1) Pay a civil penalty of $15,000 to the United States, (2) complete a mitigation project to enhance protection of existing wetlands on their property by constructing barriers to intrusion by motor vehicles, and (3) complete a preservation project by transferring title to 30.59 acres of wetlands valued at $98,126, including the protective barriers, under a perpetual conservation easement, to the Puerto Rico Department of Natural and Environmental Resources.

The Department of Justice will receive, for a period of thirty (30) days from the date of this publication, comments relating to the proposed consent decree. Comments should be addressed to the Assistant Attorney General, Environment and Natural Resources Division, U.S. Department of Justice, Washington, DC 20530, and should refer to United States v. Sapo Corporation, et al., Civil Action No. 99-2366 (D.P.R.), DOJ Ref. No. 90-5-1-1-4471/1.

The proposed consent decree may be examined at the Office of the United States Attorney, Federal Building, Chardon Avenue, Hato Rey, Puerto Rico 00918. A copy may be obtained by mail from the Consent Decree Library, U.S. Department of Justice, P.O. Box 7611, Ben Franklin Station, Washington, DC 20044-7611. In requesting a copy by mail, please refer to the referenced case and enclose a check in the amount of $5.75 (25 cents per page reproduction costs for the Decree and appendix) made payable to Consent Decree Library.

Bruce Gelber,
Deputy Chief, Environmental Enforcement Section, Environment and Natural Resources Division, Department of Justice.

[FR Doc. 00-1271 Filed 1-19-00; 8:45 am]

BILLING CODE 4410-15-M